DEPARTMENT OF AGRICULTURE

Office of Procurement and Property Management; Proposed Collection; Comment Request Concerning Collection of Acquisition Information

AGENCY: Office of Procurement and Property Management, USDA.

ACTION: Notice and request for comments regarding a proposed extension of approved information collection requirements.

SUMMARY: In accordance with the Paperwork Reduction Act of 1995 (44 U.S.C. Chapter 35), the Office of Procurement and Property Management (OPPM) intends to submit to the Office of Management and Budget (OMB) a request to review and approve an extension of five currently approved information collections related to the award of, or performance under, USDA contracts. OPPM invites comment on these information collections. These information requirements are currently approved by OMB for use through November 30, 2006.

DATES: Comments on this notice must be received by July 31, 2006 to be assured of consideration.

ADDRESSES: Address all comments concerning this notice to: Patrice K. Honda, Procurement Analyst, Office of Procurement and Property Management, STOP 9303, U.S. Department of Agriculture, 1400 Independence Avenue, SW., Washington, DC 20250-9303. Comments may also be submitted via fax at (202) 720-8972, or through the Internet at phonda@usda.gov.

FOR FURTHER INFORMATION CONTACT: Patrice K. Honda, Office of Procurement and Property Management, STOP 9303, U.S. Department of Agriculture, 1400 Independence Avenue, SW., Washington, DC 20250-9303, (202) 720-8924.

SUPPLEMENTARY INFORMATION: USDA is seeking OMB approval of the following information collections:

1. Title: Procurement: Maximum Workweek—Construction Schedule.

OMB Number: 0505-0011.

Expiration Date: 11/30/2006.

Type of request: Extension of a currently approved collection.

Proposed use of information: Information about the contractor's proposed hours of work is requested prior to the start of construction so that the agency can determine when on-site representatives are needed. A contracting office will insert this clause in a construction contract when, because of the agency's staffing or budgetary constraints, it is necessary to limit the contractor's performance to a maximum number of hours per week.

Respondents: Businesses or other for-profit; small businesses or organizations.

Estimated Number of Respondents: 400.

Estimated Number of Responses per Respondent: One (1).

Estimate of Burden: The information collected is the hours and days of the week the contractor proposes to carry out construction, with starting and stopping times. Public reporting burden for this collection of information is estimated to average fifteen minutes per response.

Estimated Total Annual Burden on Respondents: 100 hours.

2. Title: Procurement: Instruction for the Preparation of Business and Technical Proposals.

OMB Number: 0505-0013.

Expiration Date: 11/30/2006

Type of request: Extension of a currently approved collection.

Proposed use of information: Technical and business proposals received from offerors, including information about offerors' organization and financial systems, are used when conducting negotiated procurement to evaluate and determine the feasibility of the prospective contractor's technical approach, management, and cost/price to accomplish the task and/or provide the supplies or services required under a resultant contract.

Respondents: State or local governments; businesses or other for-profit; small businesses or organizations.

Estimated Number of Respondents: 2,100.

Estimated Number of Responses per Respondent: One (1).

Estimate of Burden: Public reporting burden to prepare technical and business proposals as part of a response to a solicitation is estimated to average 32 hours per response. This estimate does not include burden associated with providing information required in accordance with information collections prescribed by the Federal Acquisition Regulation. Only businesses submitting offers in response to a solicitation are affected by this collection.

Estimated Total Annual Burden on Respondents: 67,200 hours.

3. Title: Procurement: Brand Name or Equal Clause.

OMB Number: 0505-0014.

Expiration Date: 11/30/2006.

Type of request: Extension of a currently approved collection.

Proposed use of information: The Agriculture Acquisition Regulation permits the use of “brand name or equal” purchase descriptions to procure commercial products. Such descriptions require the offeror on a supply procurement to identify the “equal” item being offered and to indicate how that item meets salient characteristics stated in the purchase description. The contracting officer can determine from the descriptive information furnished whether the offered “equal” item meets the salient characteristics of the Government's requirements. The use of brand name or equal descriptions eliminates the need for bidders or offerors to read and interpret detailed specifications or purchase descriptions.

Respondents: Businesses or other for-profit; small businesses or organizations.

Estimated Number of Respondents: 26,678.

Estimated Number of Responses per Respondent: One (1).

Estimate of Burden: This information collection is limited to solicitations for products for which other methods of product specification are impracticable. Only businesses wishing to submit bids or offers in response to a solicitation are affected. Public reporting burden for this collection of information is estimated to average one tenth of an hour per response.

Estimated Total Annual Burden on Respondents: 2,668 hours.

4. Title: Procurement: Key Personnel Clause.

OMB Number: 0505-0015.

Expiration Date: 11/30/2006.

Type of request: Extension of a currently approved collection.

Proposed use of information: The information enables the agency to determine whether the departure of a key person from the contractor's staff may have a deleterious effect upon contract performance, and to determine what accommodations or remedies may be taken. If the agency could not obtain information about departing key personnel, it could not ensure that qualified personnel continue to perform contract work.

Respondents: State or local governments; businesses or other for-profit; small businesses or organizations.

Estimated Number of Respondents: 300.

Estimated Number of Responses per Respondent: One (1).

Estimate of Burden: The information collection is required only when a contractor proposes to make changes to key personnel assigned to performance of a contract. Consequently, information collection is occasional. Public reporting burden for this collection of information is estimated to average one hour per respondent.

Estimated Total Annual Burden on Respondents: 300 hours.

5. Title: Procurement: Progress Reporting Clause.

OMB Number: 0505-0016.

Expiration Date: 11/30/2006.

Type of request: Extension of a currently approved collection.

Proposed use of information: The information is requested monthly or quarterly from contractors performing research and development (R&D) or advisory and assistance services, including ADP system or software development. The information enables the contracting office to monitor actual progress and expenditures compared to anticipated performance and proposal representations upon which the contract award was made. The information alerts the contracting office to technical problems, to a need for additional staff resources or funding, and to the probability of timely completion within the contract cost or price. If the contracting office could not obtain a report of progress, it would have to physically monitor the contractor's operations on a day-to-day basis throughout the performance period.

Respondents: State or local government; businesses or other for-profit; small businesses or organizations.

Estimated Number of Respondents: 300.

Estimated Number of Responses per Respondent: The frequency of progress reports varies from monthly to quarterly depending on the complexity of the contract and the risk of successful completion. Based on monthly reporting, each respondent would submit 12 responses per year.

Estimate of Burden: Public reporting burden for this collection of information is estimated to average one and one half hours per respondent.

Estimated Total Annual Burden on Respondents: 5,400 hours.

Comments: Comments received will be considered in order to: (a) Evaluate whether each proposed collection of information is necessary for the proper performance of the functions of USDA contracting offices, including whether the information will have a practical utility; (b) evaluate the accuracy of OPPM's estimate of the burden of each proposed collection of information, including the validity of the methodology and assumptions used; (c) enhance the quality, utility and clarity of the information to be collected; and (d) minimize the burden of the five collections of information on those who respond, including through the use of automated collection techniques or other forms of information technology. All responses to this notice will be summarized and included in the request for OMB approval, and will become a matter of public record.

G.D. Haggstrom,
Deputy Director, Office of Procurement and Property Management.

[FR Doc. E6-8307 Filed 5-26-06; 8:45 am]

BILLING CODE 3410-TX-P